DEPARTMENT OF EDUCATION

Applications for New Awards; Educational Technology, Media, and Materials for Individuals With Disabilities—Research and Development Center To Advance the Use of New and Emerging Technologies to Ensure Accessibility

AGENCY: Office of Special Education and Rehabilitative Services, Department of Education.

ACTION: Notice.

Overview Information

Notice inviting applications for a new award for fiscal year (FY) 2015.

Catalog of Federal Domestic Assistance (CFDA) Number: 84.327B.

DATES:

Applications Available: April 8, 2015.

Deadline for Transmittal of Applications: May 26, 2015.

Deadline for Intergovernmental Review: July 22, 2015.

Full Text of Announcement

I. Funding Opportunity Description

Purpose of Program: The purposes of the Educational Technology, Media, and Materials for Individuals with Disabilities Program ¹ are to improve results for students with disabilities by: (1) Promoting the development, demonstration, and use of technology; (2) supporting educational activities designed to be of educational value in the classroom for students with disabilities; (3) providing support for captioning and video description that is appropriate for use in the classroom; and (4) providing accessible educational materials to students with disabilities in a timely manner.

¹ This program was formerly called “Technology and Media Services for Individuals with Disabilities.” The Department has changed the name to Educational Technology, Media, and Materials for Individuals with Disabilities Program and updated the purposes of the program to more clearly convey that the program includes accessible educational materials. The program's activities and statutory authorization (20 U.S.C. 1474) remain unchanged.

Priority: In accordance with 34 CFR 75.105(b)(2)(v), this priority is from allowable activities specified in the statute (see sections 674(b) and 681(d) of the Individuals with Disabilities Education Act (IDEA) (20 U.S.C. 1474(b) and 1481(d))).

Absolute Priority: For FY 2015 and any subsequent year in which we make awards from the list of unfunded applicants from this competition, this priority is an absolute priority. Under 34 CFR 75.105(c)(3), we consider only applications that meet this priority.

This priority is:

Research and Development Center To Advance the Use of New and Emerging Technologies To Ensure Accessibility

Background

Section 612(a)(23) of IDEA requires States to provide educational materials in accessible formats in a timely manner to students who are blind or have print disabilities. Section 613(a)(6) of IDEA includes a similar requirement for local educational agencies (LEAs). In the process of implementing these provisions in IDEA, States, LEAs, and accessible media producers (AMPs), whom States and LEAs employ to convert educational materials into accessible formats, have encountered barriers to the production of high-quality accessible educational materials (AEM).² Specifically, they have been challenged by limitations of the technology available to produce AEM that includes accessible graphic content (i.e., complex formulae, images, charts, tables, graphs, and mathematical notation, hereafter referred to as graphic content). These barriers are more evident in the conversion of science, technology, engineering, and mathematics (STEM) educational materials into accessible formats due to their extensive use of graphic content.

² AEM (also known as accessible instructional materials) and technologies enable children with disabilities to have access to, be involved in, and make progress in the general education curriculum (or for infants, toddlers, and preschool children and their families to participate in developmental and educational activities, such as those related to early literacy and numeracy) and assessments.

In 2010, the Office of Special Education Programs (OSEP) awarded a cooperative agreement, the Research and Development Center on Digital Images and Graphic Content in Accessible Instructional Materials, to implement a rigorous program of research and development to improve the cost, quality, usability, and availability of graphic content in accessible instructional materials and the devices and software used to access that content for blind, visually impaired, and print disabled students. While the center has improved the way graphic content is produced and accessed by children with print disabilities, ensuring accessibility to complex educational materials, such as STEM educational materials with graphic content, continues to challenge publishers, AMPs, and others who develop and produce STEM educational materials. The need for research and development continues to exist.

Although the technology, publishing, and disability communities are working together to develop standards and guidelines for producing and accessing digital materials and assessments in accessible formats, the adoption of these standards remains voluntary, thus implementation and use of the standards are inconsistent. Additionally, some standards and guidelines may not include markup language,³ or may include it as optional, resulting in standards and guidelines that are insufficient to ensure the accessibility of educational materials for some children with disabilities.⁴ A free appropriate public education cannot be provided to many children with disabilities unless the educational technologies and materials are accessible, consistent with standards and guidelines that are uniformly applied across technologies, devices, tools, products, and software.

³ “Markup language,” in the context of digital technology, means a set of standards, as HTML or SGML, used to create an appropriate markup scheme for an electronic document, as to indicate its structure or format. See http://dictionary.reference.com/browse/markup language.

⁴ For more information, see http://idpf.org/news/aap-epub-3-implementation-white-paper-now-available and www.imsglobal.org/edupub/EPUB3QTILTICaliper_BestPracticesvd7.pdf.

New unexplored technologies, and the promise of more powerful technologies in the future, provide potential opportunities to improve access to digital content and educational materials. Since 2004, administrators, teachers, preschool special education teachers, early interventionists, and parents are more aware of the use of AEM by students with print disabilities, and of anecdotal reports and preliminary data from research projects that suggest use of AEM is associated with improvements in academic performance and progress for some children with print disabilities (Abedi & Ewers, 2013; Stahl, 2004). Moreover, the Division for Early Childhood Recommended Practices (April, 2014) stresses the importance of ensuring that educational materials (e.g., books, toys, multimedia content, etc.) are accessible to infants, toddlers, and preschoolers with disabilities and that the use of these materials is supported across learning environments. These reports and case studies have triggered interest in the use of AEM by children with non-print disabilities and by infants, toddlers, and preschoolers with visual impairments and other print disabilities (e.g., public comment retrieved from www.tea.state.tx.us/index4.aspx?id=25769810909). If children with disabilities other than print disabilities, and infants, toddlers, and preschoolers with disabilities are to use AEM, researchers must explore and identify the developmental and educational needs of these children as they relate to the use of AEM. The information gained from this work can be applied to the development of new products, production standards, and sources where AEM can be acquired for this expanded population of children with disabilities.

To address the issues and challenges related to the development, production, and dissemination of AEM and to ensure that infants, toddlers, and children ⁵ who are blind or have print disabilities and those with disabilities not traditionally associated with print disabilities have full access to educational content, including graphic content, in accessible formats, OSEP proposes to fund a Research and Development Center to Advance the Use of New and Emerging Technologies to Ensure Accessibility.

⁵ The term “children” in this priority includes individuals with disabilities ages birth-21.

Priority

The purpose of this priority is to fund a cooperative agreement to support the establishment and operation of a Research and Development Center to Advance the Use of New and Emerging Technologies to Ensure Accessibility (Center). Under this priority, the Center must conduct a comprehensive review of industry accessibility standards and their applications. Based on this review, the Center must implement a program of research and development designed to achieve, at a minimum, the following outcomes:

(a) Development, demonstration, and use of technologies, devices, tools, products, and software that ensure full access to educational materials and content, including graphic content, regardless of the original formats of the materials (e.g., print, digital, multimedia) for children who are blind or have print disabilities and those with disabilities not traditionally associated with print disabilities;

(b) Increase the number of new digital and multimedia educational materials that are “born accessible” (i.e., accessibility features are included in the original design and production of the materials) and are readily available and accessible to children who are blind or have print disabilities and those with disabilities not traditionally associated with print disabilities.

(c) Identification of potential uses of new technologies, devices, tools, products, and software to enhance the accessibility of educational materials, especially STEM educational materials, for children who are blind or have print disabilities and those with disabilities not traditionally associated with print disabilities;

(d) Identification of accessibility features specific to the needs of children with disabilities not traditionally associated with print disabilities (e.g., autism, hearing impairments, intellectual disabilities, English learners with disabilities); and

(e) Increased knowledge sharing among technology developers, publishers, and end users including educators, persons with disabilities, and parents of children with disabilities.

Application Requirements

In addition to these programmatic requirements, to be considered for funding under this priority, applicants must meet the application and administrative requirements in this priority. OSEP encourages innovative approaches to meeting the following requirements:

(a) Demonstrate, in the narrative section of the application under “Significance of the Project,” how the proposed project will achieve and maintain expert awareness of the current and developing standards and uses of technologies that support or increase accessibility of educational materials for children with disabilities by:

(1) Establishing and maintaining a technical format review advisory committee. The technical format review advisory committee must—

(i) Consist of no fewer than five members representing the full range of diverse stakeholders, including at least one member from each of the following five specific groups: Technology developers, publishers, and end users including educators, persons with disabilities, and parents of children with disabilities. Advisory committee members should be identified no later than six weeks from the award date;

(ii) Meet no less frequently than twice per year during the project period with the project director and relevant project staff;

(iii) Evaluate current technologies, standards, and guidelines that are used and applied in the production and use of educational materials to ensure that the content is accessible to children with disabilities; and

(iv) Evaluate current devices and software that support and ensure access to educational materials.

(2) Leveraging its network of professional relationships to increase the awareness and application of accessibility standards among educators, publishers, and technology developers. To meet this requirement, the applicant must:

(i) Demonstrate the extent of its network of educators, publishers, and technology developers;

(ii) Describe its proposed methods to increase the awareness and application of accessibility standards by educators, publishers, and technology developers; and

(iii) Describe its plan for expanding its network to include additional stakeholders in order to maintain relevant expertise in emerging technologies, standards, and guidelines.

(3) Disseminate information on the uses, and potential uses, of emergent technologies, devices, tools, products, and software and accessibility standards and features of AEM for children who are blind or have print disabilities and those with disabilities not traditionally associated with print disabilities. To meet this requirement, the applicant must describe its plan to:

(i) Prepare and disseminate reports, documents, and other materials available in appropriate formats on:

(A) Current industry standards and best practices in the production and dissemination of AEM;

(B) Current technologies used to produce AEM;

(C) Currently available devices and software used to access AEM;

(D) Any devices or software developed or modified by the Center;

(E) Processes related to the development or modification of technologies, standards, and guidelines used in the production of AEM, and devices and software used to access AEM; and

(F) Related topics, as requested by OSEP; and

(ii) Communicate using a variety of media and methods (for example, presentations, publications, conference attendance, demonstrations) to reach the broad range of technology developers, publishers, and end users, including educators, children with disabilities, and parents of children with disabilities.

(b) Demonstrate, in the narrative section of the application under “Quality of Project Services,” how the proposed project will—

(1) Explore the legal issues around the provision of AEM for children with disabilities not traditionally associated with print disabilities.

(2) Collaborate with publishers and distributors of educational materials to develop and field test models for making AEM available for use by children with disabilities traditionally not associated with print disabilities.

(3) Determine potential uses of new technologies to enhance the accessibility of educational materials.

(4) Collaborate with publishers, AMPs, State educational agencies, LEAs, consumers, and technology developers, vendors, and others with expertise in AEM production, devices, and software, to—

(i) Develop technologies that improve access to and readability of educational materials containing graphic content, including STEM educational materials;

(ii) Develop tools and products to improve the quality and usability of AEM and increase the efficiency of producing AEM, including the production of digital braille files written in Unified English Braille;

(iii) Identify accessibility features specific to the needs of children with disabilities not traditionally associated with print disabilities; and

(iv) Develop new tools or products and modify existing tools and products that address the specialized needs of children with disabilities not traditionally associated with print disabilities.

(c) Demonstrate, in the narrative section of the application under “Adequacy of Project Resources,” how the proposed project will—

(1) Include key personnel, consultants, and contractors with sufficient qualifications, experience, and commitment to carry out the proposed activities and achieve the project's intended outcomes.

(2) Encourage applications for employment from persons who are members of groups that have traditionally been underrepresented based on race, color, national origin, linguistic diversity, sex, gender identity, sexual orientation, age, or disability, as appropriate.

(3) Allocate project resources to carry out proposed activities.

(4) Ensure the proposed costs are reasonable in relation to the anticipated results and benefits.

(d) Demonstrate, in the narrative section of the application under “Quality of Management Plan,” how the proposed project will—

(1) Ensure that the project's intended outcomes will be achieved on time and within budget. To address this requirement, the applicant must describe—

(i) Clearly defined responsibilities for key project personnel, consultants, and subcontractors, as applicable; and

(ii) Timelines and milestones for accomplishing the project tasks.

(2) Pursue a diversity of perspectives, including families, early intervention service providers, educators, publishers, designers, developers, vendors, researchers, parent training and information centers, policy makers, the business community, SEAs and lead agencies, and other OSEP-funded projects.

(3) Communicate effectively between the project and stakeholders and between the project and OSEP including OSEP-funded projects. To address this requirement, the applicant must commit to—

(i) Maintain a Web site that meets government or industry-recognized standards for accessibility;

(ii) Communicate and collaborate on an ongoing basis with OSEP-funded projects, specifically the Center for Parent Information and Resources, National Instructional Materials Access Center, National Center on Accessible Educational Materials for Learning, and Bookshare and Innovation for Education. The collaborations could include the joint development of products, participation in field-testing, and regular communications and updates on Center activities;

(iii) Prior to developing any new product, whether paper, digital, or oral, discuss the content and purpose of the product or event with the OSEP project officer;

(iv) Maintain ongoing communication with the OSEP project officer through biweekly phone conversations and email communication; and

(v) Submit a quarterly progress report to the OSEP project officer.

(e) In the narrative section of the application under “Quality of the Evaluation Plan,” include an evaluation plan. The evaluation plan must describe measures of progress in implementation, including the extent to which the project's products and services have reached the target population, and measures of intended outcomes or results of the project's activities in order to assess the effectiveness of those activities.

In the evaluation plan, the applicant must commit to—

(1) Ensure ongoing feedback on the quality of project performance from technology developers, AEM publishers, and end users including educators, persons with disabilities, and parents of children with disabilities.

(2) Assess the cost, quality, usability, and availability of the technologies, including devices and software products, that are developed or modified by the Center.

(3) Designate, with the approval of the OSEP project officer, a project liaison staff person with sufficient dedicated time, experience in evaluation, and knowledge of the project to work in collaboration with the Center to Improve Project Performance (CIPP),⁶ the project director, and the OSEP project officer on the following tasks:

⁶ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased technical assistance in designing the evaluations with due consideration of the project's budget. CIPP does not function as a third-party evaluator.

(i) Revise, as needed, the logic model submitted in the grant application to reflect any changes or clarifications to the model discussed at the kick-off meeting and to provide for a more comprehensive measurement of implementation and outcomes;

(ii) Refine, as needed, the evaluation design and instrumentation proposed in the grant application consistent with the logic model (e.g., preparing evaluation questions about significant program processes and outcomes, developing quantitative or qualitative data collections that permit both the collection of progress data, including fidelity of implementation, as appropriate, and the assessment of effectiveness, selecting respondent samples if appropriate, designing instruments or identifying data sources, and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan;

(B) Delineates the data expected to be available by the end of the second project year for use during the project's intensive review for continued funding described under the heading Fourth and Fifth Years of the Project; and

(C) Can be used to assist the project director and the OSEP project officer, with the assistance of CIPP as needed, to specify the performance measures to be addressed in the project's Annual Performance Report.

(4) Cooperate with CIPP staff in order to accomplish the tasks described in paragraph (e)(3) of these application requirements.

(5) Dedicate sufficient funds in each budget year to cover the costs of carrying out the tasks described in paragraphs (e)(3) and (e)(4) of these application requirements and implementing the evaluation plan.

(f) In the narrative under “Required Project Assurances” or the appendices as directed, the applicant must—

(1) Include, in Appendix A, a logic model that depicts, at a minimum, the project's proposed goals, activities, outputs, and outcomes. A logic model communicates how a project will achieve its outcomes and provides a framework for both the formative and summative evaluations of the project.

Note: The following Web sites provide more information on logic models: www.researchutilization.org/matrix/logicmodel_resource3c.html and www.tadnet.org/pages/589.

(2) Include, in Appendix A, a conceptual framework for the project.

(3) Include, in Appendix A, person-loading charts (charts listing information such as key project staff, their full-time equivalent, and the number of days allocated to each major activity) and timelines to illustrate the management plan described in the narrative.

(4) Include in the budget:

(i) Attendance at the following:

(A) A one and one-half day kick-off meeting to be held in Washington, DC, after receipt of the award, and an annual planning meeting held in Washington, DC, with the OSEP project officer during each subsequent year of the project period.

Note: Within 30 days of receipt of the award, a post-award teleconference must be held between the OSEP project officer and the grantee's project director or other authorized representative.

(B) A three-day project directors' meeting in Washington, DC, during each year of the project period.

(C) One two-day trip annually to attend Department briefings, Department-sponsored conferences, and other meetings, as requested by OSEP.

(D) A one-day meeting in Washington, DC, as described under the heading Fourth and Fifth Years of the Project.

(ii) A line item for a summative evaluation to be conducted by an independent third party.

(iii) A line item for an annual set-aside of five percent of the grant amount to support emerging needs that are consistent with the proposed project's activities, as those needs are identified in consultation with OSEP.

Note: With approval from the OSEP project officer, the Center must reallocate any remaining funds from this annual set-aside no later than the end of the third quarter of each budget period.

Fourth and Fifth Years of the Project

In deciding whether to continue funding the Center for the fourth and fifth years, the Secretary will consider the requirements of 34 CFR 75.253(a), as well as—

(a) The recommendation of a review team consisting of experts selected by the Secretary. This intensive review will be conducted during a one-day meeting in Washington, DC, that will be held during the last half of the second year of the project period;

(b) The timeliness and effectiveness with which all requirements of the negotiated cooperative agreement have been or are being met by the Center; and

(c) The quality, relevance, and usefulness of the Center's activities and products and the degree to which the Center's activities and products have contributed to changed practice and improved student access to the general education curriculum through improved access to high-quality AEM and devices.

References

Abedi, J., & Ewers, N. (2013, February). Smarter balanced assessment consortium: Accommodations for English language learners and students with disabilities. Retrieved from www.smarterbalanced.org/wordpress/wp-content/uploads/2012/08/Accomodations-for-under-represented-students.pdf.

Division for Early Childhood of the Council for Exceptional Children. (2014, April). Recommended Practices in Early Intervention/Early Childhood Special Education 2014. Retrieved from http://dec.membershipsoftware.org/files/DEC%20RPs%206%2025%202014%20final1.pdf.

Stahl, S. (2004). The promise of accessible textbooks: Increased achievement for all students. Wakefield, MA: National Center on Accessing the General Curriculum. Retrieved from http://aim.cast.org/learn/historyarchive/backgroundpapers/promise_of_accessible_textbooks#.VE6MEfldXYg.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 79 apply to all applicants except federally recognized Indian tribes.

Note: The regulations in 34 CFR part 86 apply to institutions of higher education (IHEs) only.

II. Award Information

Type of Award: Cooperative agreement.

Estimated Available Funds: $700,000 for the first year; and $1,200,000 for each subsequent year.

Contingent upon the availability of funds and the quality of applications, we may make additional awards in FY 2016 from the list of unfunded applicants from this competition.

Maximum Award: We will reject any application that proposes a budget exceeding $700,000 for the first year or $1,200,000 for a subsequent year. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IHEs; other public agencies; private nonprofit organizations; freely associated States and outlying areas; Indian tribes or tribal organizations; and for-profit organizations.

2. Cost Sharing or Matching: This program does not require cost sharing or matching.

3. Other General Requirements: (a) Recipients of funding under this competition must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.327B.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition. Page Limit: The application narrative (part III of the application) is where you, the applicant, address the selection criteria that reviewers use to evaluate your application. You must limit part III to no more than 70 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to part I, the cover sheet; part II, the budget section, including the narrative budget justification; part IV, the assurances and certifications; or the abstract (follow the guidance provided in the application package for completing the abstract), the table of contents, the list of priority requirements, the resumes, the reference list, the letters of support, or the appendices. However, the page limit and double-spacing requirement does apply to all of part III, the application narrative, including all text in charts, tables, figures, graphs, and screen shots.

We will reject your application if you exceed the page limit in the application narrative section or if you apply standards other than those specified in this notice and the application package.

3. Submission Dates and Times:

Applications Available: April 8, 2015.

Deadline for Transmittal of Applications: May 26, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: July 22, 2015.

4. Intergovernmental Review: This competition is subject to E. O. 12372 and the regulations in 34 CFR part 79. Information about Intergovernmental Review of Federal Programs under E. O. 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the Research and Development Center to Advance the Use of New and Emerging Technologies to Ensure Accessibility competition, CFDA number 84.327B, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Research and Development Center to Advance the Use of New and Emerging Technologies to Ensure Accessibility competition at www.Grants.gov. You must search for the downloadable application package for this competition by the CFDA number. Do not include the CFDA number's alpha suffix in your search (e.g., search for 84.327, not 84.327B).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Glinda Hill, U.S. Department of Education, 400 Maryland Avenue SW., room 4063, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address:

U.S. Department of Education, Application Control Center, Attention: (CFDA Number 84.327B), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.327B), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Educational Technology, Media, and Materials for Individuals with Disabilities Program. These measures are included in the application package and focus on the extent to which projects are of high quality, are relevant to improving outcomes of children with disabilities, contribute to improving outcomes for children with disabilities, and generate evidence of validity and availability to appropriate populations. Projects funded under this competition are required to submit data on these measures as directed by OSEP.

Grantees will be required to report information on their project's performance in annual performance reports and additional performance data to the Department (34 CFR 75.590 and 75.591).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Glinda Hill, U.S. Department of Education, 400 Maryland Avenue SW., Room 4063, PCP, Washington, DC 20202-2600. Telephone: (202) 245-7376.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5037, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 2, 2015.
Sue Swenson,
Acting Assistant Secretary for Special Education and Rehabilitative Services.

[FR Doc. 2015-08010 Filed 4-7-15; 8:45 am]

BILLING CODE 4000-01-P